DEPARTMENT OF TRANSPORTATION

Federal Aviation Administration

14 CFR Part 71

[Docket No. FAA-2015-0671; Airspace Docket No. 15-ANM-5]

Establishment of Class E Airspace, and Amendment of Class D and E Airspace; Ogden-Hinckley Airport, UT

AGENCY: Federal Aviation Administration (FAA), DOT.

ACTION: Final rule.

SUMMARY: This action establishes Class E airspace as an extension to the Class D surface area, modifies Class D airspace, and Class E airspace extending from 700 feet above the surface at Ogden-Hinckley Airport, Ogden, UT. The FAA's review of the airspace area revealed that modification of controlled airspace enhances the safety and management of Standard Instrument Approach Procedures for Instrument Flight Rules (IFR) operations at the airport. This action updates the geographic coordinates of Ogden-Hinckley Airport and Hill AFB, Ogden, UT, and corrects an error in the regulatory text of the Class E airspace designated as an extension.

DATES: Effective 0901 UTC, October 15, 2015. The Director of the Federal Register approves this incorporation by reference action under title 1, Code of Federal Regulations, part 51, subject to the annual revision of FAA Order 7400.9 and publication of conforming amendments.

ADDRESSES: FAA Order 7400.9Y, Airspace Designations and Reporting Points, and subsequent amendments can be viewed on line at http://www.faa.gov/airtraffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and ATC Regulations Group, Federal Aviation Administration, 800 Independence Avenue SW., Washington, DC 29591; telephone: 202-267-8783.

FOR FURTHER INFORMATION CONTACT: Steve Haga, Federal Aviation Administration, Operations Support Group, Western Service Center, 1601 Lind Avenue SW., Renton, WA 98057; telephone (425) 203-4563.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at Ogden-Hinckley Airport, Ogden, UT.

History

On May 1, 2015, the FAA published in the Federal Register a notice of proposed rulemaking (NPRM) to establish Class E airspace as an extension to the Class D surface area, modify Class D airspace, and Class E airspace extending from 700 feet above the surface, at Ogden-Hinckley Airport, Ogden, UT (80 FR 24861). Interested parties were invited to participate in this rulemaking effort by submitting written comments on the proposal to the FAA. No comments were received. Subsequent to publication, the FAA identified an error in the geographic coordinates in the legal description of the airspace designated as an extension to Class D airspace. This action corrects the error.

Class D and Class E airspace designations are published in paragraph 5000, 6004, and 6005, respectively, of FAA Order 7400.9Y, dated August 6, 2014, and effective September 15, 2014, which is incorporated by reference in 14 CFR 71.1. The Class D and Class E airspace designations listed in this document will be published subsequently in the Order.

Availability and Summary of Documents for Incorporation by Reference

This document amends FAA Order 7400.9Y, airspace Designations and Reporting Points, dated August 6, 2014, and effective September 15, 2014. FAA Order 7400.9Y is publicly available as listed in the ADDRESSES section of this final rule. FAA Order 7400.9Y lists Class A, B, C, D, and E airspace areas, air traffic service routes, and reporting points.

The Rule

This amendment to Title 14, Code of Federal Regulations (14 CFR) part 71 establishes Class E airspace as an extension to the Class D surface area, modifies Class D airspace, and Class E airspace extending upward from 700 feet above the surface at Ogden-Hinckley Airport, Ogden, UT. Class E airspace as an extension to the Class D surface area is established with a segment extending from the 4.3-mile radius of the airport to 16 miles southwest of the airport. The Class D airspace common boundary between Ogden-Hinckley Airport and Hill AFB, Ogden, UT, is moved 1 mile northwest. Class E airspace extending upward from 700 feet above the surface is modified to within a 5.3-mile radius of the airport, with segments extending from the 5.3-mile radius to 11 miles northwest, and 13 miles southwest of the airport. This action updates the geographic coordinates for Ogden-Hinckley Airport and Hill AFB, as well as corrects coordinates in the legal description for the Class E airspace area designated as an extension. This action enhances the safety and management of controlled airspace within the NAS.

Regulatory Notices and Analyses

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 5000 Class D Airspace

* * * * *

ANM UT D Ogden-Hinckley Airport, UT [Modified]

Ogden-Hinckley Airport, UT

(Lat. 41°11′44″ N., long. 112°00′47″ W.)

Hill AFB, UT

(Lat. 41°07′26″ N., long. 111°58′23″ W.)

That airspace extending upward from the surface up to, but not including, 7,800 feet within a 4.3-mile radius of the Ogden-Hinckley Airport, and that airspace beginning at a point where the Ogden-Hinckley 216° radial intersects the Hill AFB 4.6-mile radius to the point where the Ogden-Hinckley 231° radial intersects the 4.3-mile radius, thence clockwise along the 4.3-mile radius to where the Ogden-Hinckley 84° radial intersects the 4.3-mile radius to the point where the Ogden-Hinckley 99° radial intersects the Hill AFB 4.6-mile radius, excluding the portion southeast of a line beginning where the 216° radial intersects the Hill AFB 4.6-mile radius; thence northeast to lat. 41°10′21″ N., long. 112°00′55 W.; to lat. 41°10′56″ N., long. 111°59′19″ W.; to a point where the Ogden-Hinckley 99° radial intersects the Hill AFB 4.6-nm radius. This airspace is effective during the specific dates and times established in advance by a Notice to Airmen. The effective date and time will thereafter be published in the Airport/Facility Directory.

Paragraph 6004 Class E Airspace Areas Designated as an Extension to a Class D or Class E Surface Area

* * * * *

ANM UT E4 Ogden-Hinckley Airport, UT [New]

Ogden-Hinckley Airport, UT

(Lat. 41°11′44″ N., long. 112°00′47″ W.)

Hill AFB, UT

(Lat. 41°07′26″ N., long. 111°58′23″ W.)

That airspace extending upward from the surface 4 miles north and parallel to the 225° radial of the Ogden-Hinckley Airport, extending from the 4.3-mile radius to 16 miles southwest of the airport, thence southeast to lat. 40°57′3″ N., long. 112°12′44″ W., thence northeast to the point where the Ogden-Hinckley 99° radial intersects the Hill AFB 4.6-mile radius, thence to the point of beginning.

Paragraph 6005 Class E Airspace Areas Extending Upward From 700 Feet or More Above the Surface of the Earth

* * * * *

ANM UT E5 Ogden-Hinckley Airport, UT [Modified]

Ogden-Hinckley Airport, UT

(Lat. 41°11′44″ N., long. 112°00′47″ W.)

That airspace extending upward from 700 feet above the surface within a 5.3-mile radius of Ogden-Hinckley Airport, and that airspace 3 miles either side of the 294° radial from the airport extending from the 5.3-mile radius to 11 miles northwest of the airport, and that airspace 4 miles either side of the Ogden-Hinckley 226° radial from the 5.3-mile radius to 13 miles southwest of the airport.

Issued in Seattle, Washington, on July 27, 2015.
Johanna Forkner,
Manager, Operations Support Group, Western Service Center.

[FR Doc. 2015-19138 Filed 8-12-15; 8:45 am]

BILLING CODE 4910-13-P